DEPARTMENT OF ENERGY

Federal Energy Regulatory Commission

[Docket No. CP08-256-000]

Algonquin Gas Transmission, LLC; Notice of Filing

May 13, 2008.

Take notice that on April 30, 2008, Algonquin Gas Transmission, LLC (Algonquin), 5400 Westheimer Court, Houston, Texas 77056-5310, filed an application, pursuant to section 7(c) of the Natural Gas Act (NGA) and Part 157 of the Commission's Rules and Regulations, for a certificate of public convenience and necessity authorizing Algonquin to construct, own, operate and maintain an approximately 2.3 miles of 14-inch diameter pipeline loop from the head of the existing J-2 Lateral in Medford, Massachusetts (J-2 Loop). The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Pursuant to the settlement agreement between Algonquin and NSTAR Gas Company (NSTAR), in Docket No. RP07-395, Algonquin requests authorization to construct the J-2 Loop. The J-2 Loop will allow Algonquin to inspect and, if necessary, repair the existing J-2 Lateral while at the same time continuing to deliver gas to NSTAR. Also, the J-2 Loop will provide NSTAR additional capacity to meet increased demand and to ensure reliability of service. The J-2 Loop will have a total design capacity of 140,000 Dth/d, and a maximum allowable operating pressure of 433 psi. Algonquin proposes to implement initial Section 7(c) rates and related tariff provisions for services on the J-2 Loop pursuant to Rate Schedule AFT-CL and AIT-2. The entire capacity created by the J-2 Loop project has been subscribed by NSTAR under the J-2 Facility Firm Service Agreement, which specifies a long-term firm commitment for 20 years from the in-service date of the project. Algonquin proposes a service date of September 1, 2009.

Any questions regarding the application are to be directed to Garth Johnson, General Manager, Certificates and Reporting, Algonquin Gas Transmission, LLC, 5400 Westheimer Court, P.O. Box 1642, Houston, TX 77251-1642; phone number

(713) 627-5415 or by e-mail at gjohnson@spectraenergy.com.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: June 3, 2008.

Kimberly D. Bose,
Secretary.

[FR Doc. E8-11199 Filed 5-19-08; 8:45 am]

BILLING CODE 6717-01-P